DEPARTMENT OF COMMERCE

National Oceanic and Atmospheric Administration

50 CFR Part 679

[Docket No. 221115-0241]

RIN 0648-BL54

Fisheries of the Exclusive Economic Zone Off Alaska; Amendment 124 to the BSAI FMP for Groundfish and Amendment 112 to the GOA FMP for Groundfish To Revise IFQ Program Regulations

AGENCY: National Marine Fisheries Service (NMFS), National Oceanic and Atmospheric Administration (NOAA), Commerce.

ACTION: Proposed rule; request for comments.

SUMMARY: NMFS issues a proposed rule to implement Amendment 124 to the Fishery Management Plan for Groundfish of the Bering Sea and Aleutian Islands Management Area (BSAI FMP) and Amendment 112 to the Fishery Management Plan for Groundfish of the Gulf of Alaska (GOA FMP). First, this proposed rule would amend regulations for the Individual Fishing Quota (IFQ) and Community Development Quota (CDQ) Programs for pot gear configurations, pot gear tending and retrieval requirements, pot limits, and associated recordkeeping and reporting requirements. These changes would increase operational efficiency and flexibility for IFQ holders and CDQ groups. Second, this proposed rule would authorize jig gear as a legal gear type for harvesting sablefish IFQ and CDQ, increasing opportunities for entry-level participants. Third, this proposed rule would temporarily remove the Adak community quota entity (CQE) residency requirement for a period of five years. These actions are intended to promote the goals and objectives of the Northern Pacific Halibut Act of 1982, the Magnuson-Stevens Fishery Conservation and Management Act, the BSAI FMP, GOA FMP, and other applicable laws.

DATES: Submit comments on or before December 23, 2022.

ADDRESSES: You may submit comments on this document, identified by NOAA-NMFS-2022-0092, by any of the following methods:

• Electronic Submission: Submit all electronic public comments via the Federal e-Rulemaking Portal. Go to https://www.regulations.gov and enter NOAA-NMFS-2022-0092 in the Search box. Click on the “Comment” icon, complete the required fields, and enter or attach your comments.

• Mail: Submit written comments to the Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the Environmental Assessment and the Regulatory Impact Review (herein referred to as the “Analysis”) prepared for this proposed rule are available from www.regulations.gov or from the NMFS Alaska Region website at https://www.fisheries.noaa.gov/region/alaska.

Written comments regarding the burden-hour estimates or other aspects of the collection-of-information requirements contained in this proposed rule may be submitted to NMFS at the above address and to www.reginfo.gov/public/do/PRAMain. Find the particular information collection by selecting “Currently under 30-day Review—Open for Public Comments” or by using the search function.

FOR FURTHER INFORMATION CONTACT: Abby Jahn, 907-586-7228.

SUPPLEMENTARY INFORMATION:

Authority for Action

NMFS manages the groundfish fisheries of the BSAI under the BSAI FMP and of the GOA under the GOA FMP. The North Pacific Fishery Management Council (Council) prepared, and the Secretary of Commerce (Secretary) approved, the BSAI FMP and GOA FMP under the authority of the Magnuson-Stevens Fishery Conservation and Management Act (Magnuson-Stevens Act), 16 U.S.C. 1801 et seq. Regulations governing U.S. fisheries and implementing the BSAI FMP appear at 50 CFR parts 600 and 679. Sablefish (Anoplopoma fimbria) is managed as a groundfish species under the BSAI FMP and GOA FMP. The Council is authorized to prepare FMP amendments for conservation and management of a fishery managed under the BSAI FMP and GOA FMP. NMFS conducts rulemaking to implement FMP and regulatory amendments.

The International Pacific Halibut Commission (IPHC) and NMFS manage fishing for Pacific halibut (Hippoglossus stenolepis) through regulations at 50 CFR part 300, subpart E, established under the authority of the Northern Pacific Halibut Act of 1982 (Halibut Act), 16 U.S.C. 773c(a) and (b). The Halibut Act provides the Secretary of Commerce with general responsibility to carry out the Convention for the Halibut Fishery of the Northern Pacific Ocean and Bering Sea (amended by Preservation of Halibut Fishery Protocol) and the Halibut Act, including the authority to adopt regulations necessary to carry out the purposes and objectives of the Convention. The Halibut Act, 16 U.S.C. 773c(c), also provides the Council with authority to develop regulations, including limited access regulations, that are in addition to, and not in conflict with, approved IPHC regulations. The IPHC adopts annual management measures governing fishing for halibut under the Convention. The IPHC regulations are subject to acceptance by the Secretary of State with concurrence from the Secretary of Commerce. Halibut is not a groundfish species under the BSAI FMP or GOA FMP, and instead is managed under the Convention and the Halibut Act as outlined above.

Under the authority of the BSAI FMP, GOA FMP, and the Halibut Act, the Council recommended and NMFS established regulations that implemented the IFQ Program. The IFQ Program allocates sablefish and halibut harvesting privileges among U.S. fishermen. NMFS manages the IFQ Program pursuant to regulations at 50 CFR part 679 and 50 CFR part 300 under the authority of section 773c of the Halibut Act and section 303(b) of the Magnuson-Stevens Act. This proposed rule would implement Amendment 124 to the BSAI FMP and Amendment 112 to the GOA FMP. The Council recommended Amendment 124 and Amendment 112 to amend provisions of the BSAI FMP and GOA FMP applicable to the sablefish IFQ fisheries. FMP amendments and regulations developed by the Council may be implemented by NMFS only after approval by the Secretary of Commerce. Similarly, halibut fishery regulations developed by the Council may only be implemented by NMFS after approval of the Secretary of Commerce.

Background

The following sections of this preamble describe (1) background information on the IFQ Program, CDQ Program, CQE Program, the Medical Transfer Provision, specific provisions of Amendment 101 to the GOA FMP, and halibut retention; (2) the need for this proposed rule; and (3) the specific provisions that would be implemented by this proposed rule.

Individual Fishing Quota Program

Commercial halibut and sablefish fisheries in the GOA and BSAI are managed primarily under the IFQ Program. The IFQ Program was implemented in 1995 (58 FR 59375, November 9, 1993). The intent of the IFQ Program was to resolve conservation and management problems that arose from an open access fishery. The trawl sablefish fishery is not managed under the IFQ Program. This proposed rule does not modify regulations applicable to the trawl sablefish fishery.

Under the IFQ Program, access to non-trawl sablefish and halibut fisheries is limited to those persons holding quota share (QS). As an exclusive, revocable privilege, QS allows the holder to harvest a specific percentage of either the total allowable catch (TAC) in the sablefish fishery or the annual commercial catch limit in the halibut fishery. Issuance of QS was originally based on participation in the fisheries during historical qualifying periods, and QS is designated for geographic harvest areas, vessel operation type (i.e., catcher vessel (CV) or catcher/processor (CP)), and for a range of vessel categories based on size and operation type that may be used to harvest sablefish or halibut.

Allocation of QS is distributed on an annual basis through the issuance of an IFQ permit. An annual IFQ permit authorizes the permit holder to harvest a specified amount of the IFQ species in a regulatory area from a specific operation type and vessel category. IFQ is expressed in pounds and is based on the amount of quota share held in relation to the total quota share pool for each regulatory area with an assigned catch limit.

Community Development Quota Program

The Western Alaska Community Development Program (CDQ Program) was implemented in 1992 (57 FR 54936, November 23, 1992). Subsequently, the Magnuson-Stevens Act was amended to include provisions specific to the CDQ Program. The purposes of the CDQ Program are (1) to provide eligible western Alaska villages with the opportunity to participate and invest in fisheries in the BSAI management area; (2) to support economic development in western Alaska; (3) to alleviate poverty and provide economic and social benefits for residents of western Alaska; and (4) to achieve sustainable and diversified local economies in western Alaska (16 U.S.C. 1855(i)(1)(A)).

The CDQ Program consists of six different non-profit managing organizations (CDQ groups) representing different geographical regions in Alaska. The CDQ Program receives annual allocations of TAC for a variety of commercially valuable species in the BSAI groundfish, crab, and halibut fisheries, which are in turn allocated among the CDQ groups. CDQ groups use their allocations of halibut to provide opportunities for small vessel fishing by residents of their member communities. Section 4.3.1 of the Analysis (available as indicated in the ADDRESSES section above) provides additional detail on the history of the CDQ Program.

Community Quota Entity Program

The CQE Program was implemented in 2004 (69 FR 23681, April 30, 2004). The purpose of the CQE Program was to improve the ability for rural coastal communities to maintain long-term opportunities to access the halibut and sablefish resources for the GOA. The CQE Program was later amended under Amendment 102 to the BSAI FMP to include eligible communities in Area 4B and the Aleutian Islands after the Council received a proposal from the Adak Community Development Corporation (ACDC) to develop a CQE Program specific to the Aleutian Islands for opportunities to access halibut and sablefish resources (79 FR 8870, February 14, 2014). The final rule implementing Amendment 102 allowed an Aleutian Islands CQE to purchase halibut CV QS assigned to Area 4B and sablefish QS assigned to the Aleutian Islands. Limitations on leasing IFQ derived from QS were established for either eligible community residents of Adak or non-residents for a period of five years. The Council recommended limiting the authority for an Aleutian Islands CQE to lease IFQ to non-CQE residents after five years to provide adequate time to accrue benefits to the community of Adak through deliveries, provide crew opportunities for residents, and earn revenue that could assist the purchase of additional QS. The intent of the time limitation was to explicitly tie the potential long-term benefits of QS held by an Aleutian Islands CQE to the residents of Adak. The limitation ended March 17, 2019 and the Adak CQE was required to lease the annual IFQ derived from QS only to eligible community residents of Adak.

In February 2021, the Council requested an emergency rule to suspend the residency requirements applicable to the Adak CQE Program for the 2021 fishing year. The Secretary of Commerce denied the request for emergency action because it did not meet the emergency criteria described at section 305(c) of the Magnuson-Stevens Act. In the denial letter, it was noted that a longer-term management solution would be the best approach to address the ongoing challenges and impacts on the community of Adak. As a result, the Council recommended this proposed rule to remove the residency requirement for an additional period of five years with the intent of creating more opportunities for the Adak CQE to fully harvest its allocation. Sections 4.3.3 and 4.3.4 of the Analysis provide additional detail on the history of the CQE Program.

IFQ Regulatory Areas

The IFQ and CDQ fisheries are prosecuted in accordance with catch limits and managed in separate geographic areas of harvest. This proposed rule would implement provisions that affect IFQ halibut and sablefish in the GOA and IFQ and CDQ halibut and sablefish in the BSAI. Sablefish IFQ regulatory areas are defined and shown in Figure 14 to 50 CFR part 679 and section 1.3 of the Analysis. The sablefish IFQ areas in the GOA are the Southeast Outside District of the GOA (SEO), West Yakutat District of the GOA (WY), Central GOA (CGOA), and Western GOA (WGOA).

The halibut IFQ areas are consistent with IPHC regulatory areas and are shown in Figure 15 to part 679 in the Code of Federal Regulations and section 1.3 of the Analysis. These areas encompass different geographic ranges than the sablefish IFQ regulatory areas, and their boundary lines do not coincide except at the border between the United States and Canada. For the halibut IFQ areas, Area 2 is composed of Area 2A (Washington, Oregon, and California); Area 2B (British Columbia); and Area 2C (Southeast Alaska). Area 3 is composed of Area 3A (Central Gulf of Alaska) and Area 3B (Western Gulf of Alaska). Area 4 (BSAI) is composed of Areas 4A, 4B, 4C, 4D and 4E. The IPHC combines Areas 4C, 4D, and 4E into Area 4CDE for purposes of establishing a commercial fishery catch limit. Area 4CDE, Area 4B, and portions of Area 4A roughly correspond to the Bering Sea and Aleutian Islands Area defined in the BSAI FMP. A portion of Area 4A also includes part of the Western Regulatory Area of the GOA, as defined in the GOA FMP.

Medical Transfer Provision

Since 1998, the temporary transfer, or leasing, of CV IFQ has generally been prohibited with a few narrow exceptions, including a medical transfer provision. The medical transfer provision was initially implemented in 2007 (72 FR 44795, August 9, 2007) and allows a QS holder, not otherwise qualified to hire a master (50 CFR 679.42(i)(1)), to temporarily transfer their annual IFQ to another individual if the QS holder or an immediate family member have a temporary medical condition that prevents them from fishing. An applicant for a temporary medical transfer must have the medical declaration block of the application signed by a healthcare provider describing the medical condition and health risks affecting the applicant, or the applicant's immediate family member, and their inability to participate in the IFQ fishery for which they hold QS. Original issues of QS are a “grandfathered” exception to the transfer prohibition, thus receive no benefit from the medical transfer provision.

The medical transfer provision was not included in the original design of the IFQ Program because the Council prioritized the policy objective of maintaining a fishing fleet primarily consisting of owner-operators by narrowly restricting transfer provisions. The medical transfer provision is intended to provide a mechanism for QS holders who are experiencing a medical condition that would temporarily prevent them from fishing during a season to transfer their annual IFQ to another individual. The provision was not intended to create an avenue for those chronically unable to participate in the fishery to maintain the benefits of IFQ harvests or otherwise facilitate non-medical transfers of IFQ. To reduce the long-term usage of the medical provision, the Council and NMFS limited the number of instances that QS holders may use the provision for any medical condition. Since March 16, 2020, NMFS cannot approve a medical transfer if the QS holder was granted a medical transfer in any three of the previous seven years for a medical condition.

For more information about the IFQ Program, refer to section 4.3.1 of the Analysis.

Provisions of Amendment 101

This section provides relevant background information on provisions implemented under Amendment 101 to the GOA FMP that are proposed to be changed or updated by this action. Amendment 101 to the GOA FMP (81 FR 95435, December 28, 2016) authorized the use of longline pot gear in the GOA sablefish IFQ fishery, established precautionary management measures to accompany authorization, and required vessel operators to comply with current retention requirements under the IFQ Program. The Council's intent in authorizing longline pot gear was to minimize whale depredation of hooked sablefish. The Council recommended a precautionary approach to minimize gear conflicts and grounds preemption specific to each GOA area. The Council limited the use of pot gear to the longline pot configuration and only authorized this new gear type for use in the sablefish IFQ fishery. Overall, the approach was influenced by public testimony, the physical nature of the sablefish fishing grounds in the GOA, and the composition of the sablefish IFQ fleet in each area. In terms of effort, the GOA areas have constrained fishing grounds due to a smaller overall area and a larger number of participating vessels than the BSAI. Retention requirements are described later in this preamble.

The final rule implementing Amendment 101 established a 120 pot limit in the SEO and WY, and a 300 pot limit in the CG and WG regulatory areas. The purpose of establishing pot limits was to control vessel fishing effort and limit the total amount of fishing grounds that a vessel can use at a given time. The Council considered the physical nature of the fishing grounds and how many pots vessel operators could feasibly deploy. It was determined that smaller pot limits were appropriate in the SEO and WY districts because these areas have spatially concentrated fishing grounds.

The final rule implementing Amendment 101 assigned gear retrieval and tending requirements specific to each GOA area. Regulations at 679.42(l)(5)(iii) describe gear retrieval requirements as “retrieve and remove” and gear tending requirements as “redeploy or remove.” This proposed rule uses the terms retrieval and tending throughout this preamble. The final rule implementing Amendment 101 established a gear retrieval requirement for CVs in the SEO district where vessel operators are required to retrieve gear when the vessel makes an IFQ landing. Other requirements established included a five-day tending requirement for CPs in the SEO district, a five-day tending requirement in the WY district and CG regulatory area, and a seven-day tending requirement in the WG regulatory area. The preamble to the proposed rule for Amendment 101 stated that SEO and WY districts are constrained to a narrow area on the edge of the continental shelf and there are more permit holders than other areas. These factors concentrate fishing effort and gear to a smaller area than the CG and WG. Notably, the Council recommended a longer time period for gear tending in the WG regulatory area because it is the largest area and there are fewer sablefish IFQ holders relative to other areas.

As described above, currently the regulations at 679.42(l)(5)(iii) include gear retrieval and tending requirements, which are grouped together as “gear retrieval” requirements despite the difference in operation for either requirement. In its April 6, 2022 motion, the Council recommended that the gear retrieval requirements be modified to seven days for the CG and five days for the SEO. This recommendation would not otherwise change the CG's current gear tending requirement. In the Council motion, there is no mention of changing the SEO District gear retrieval requirement to a gear tending requirement. However, the Council members' remarks on the record at the April 2022 meeting show that the Council clearly intended to recommend just that. During these remarks, the Council explained that changing to a gear tending requirement would allow CVs to leave gear in the water when making an IFQ landing in the SEO and expressed that this change was needed to increase flexibility for the IFQ sablefish pot gear fleet. Additionally, the Council's motion rejected an option that would have removed the gear tending and gear retrieval requirements altogether. The Council instead recommended the more modest modifications to provide participants with some additional flexibility while still limiting the potential for preemption of the fishing grounds.

Gear marking requirements for vessel operators using longline pot gear in the GOA were also included in the final rule implementing Amendment 101. The final rule required a vessel operator to use four or more buoys, a flag mounted on a pole, and a radar reflector to mark each end of a longline pot set. The purpose of these requirements was to enhance visibility of longline pot gear and improve vessel safety by preventing gear conflicts between vessels using hook-and-line gear and those using longline pot gear. Since implementation of Amendment 101, many vessels have switched from using hook-and-line gear to longline pot gear in the GOA. As described in sections 4.5.2 and 4.5.7 of the Analysis, these gear marking requirements are unnecessary to prevent gear conflicts and burdensome to the operation strategy for longline pot gear users.

In recommending Amendment 101, the Council indicated its intent to monitor interactions between longline pot and hook-and-line gear in the GOA sablefish IFQ fishery and to determine whether changes to regulatory provisions were needed. In 2021, The Council reviewed the GOA Sablefish Pots Review, which analyzed four years of fishery data and the efficacy of a suite of fishery management measures for the IFQ sablefish fishery. The review and public testimony highlighted that some gear provisions such as pot limits, gear retrieval, and tending requirements implemented under Amendment 101 were either too restrictive or not serving their intended purpose. As a result, the Council initiated analysis of an IFQ Omnibus action. Refer to sections 1.2 and 2.4 of the Analysis for a further discussion on the history and fishery impacts of Amendment 101.

Halibut Retention

Sablefish IFQ fishermen who also hold halibut IFQ are required to retain halibut that are 32 inches or greater in length (legal size) harvested in the BSAI and GOA sablefish IFQ fishery, provided they have unused halibut IFQ. This regulation was implemented with the IFQ Program in 1995 and is intended to promote full utilization of halibut by reducing discards of halibut caught incidentally in the sablefish IFQ fishery. Many IFQ fishermen hold both sablefish and halibut IFQ, and the two species can overlap in some fishing areas (58 FR 59375, November 9, 1993). In 2016, the IPHC recommended annual management measures that authorized longline pot gear as a legal gear type to retain halibut, provided NMFS implemented regulations to authorize longline pot gear in the sablefish IFQ fishery (81 FR 14000, March 16, 2016). In addition to authorizing longline pot gear in the sablefish IFQ fishery and the other provisions described in the preceding section, Amendment 101 also included halibut retention requirements that aligned Federal regulations with the provisions in the 2016 IPHC annual management measures. The purpose of requiring retention of incidentally caught halibut was to avoid discard, and therein discard mortality, of halibut.

As required by Federal regulations, each groundfish pot must include tunnel openings no wider than nine-inches to prevent certain non-target species, such as halibut, from entering the pot. Amendment 118 to the BSAI FMP (85 FR 840, January 8, 2020) implemented regulations requiring vessel operators to retain IFQ or CDQ halibut when using pot gear when an IFQ or CDQ permit holder on board the vessel has unused halibut IFQ or CDQ for the IFQ regulatory area fished in the IFQ vessel category. Amendment 118 also added an exception to the requirement for a tunnel opening of no wider than nine inches. The exception created by Amendment 118 applies to groundfish pots when there is halibut IFQ or CDQ on board, and when fishing for halibut or sablefish IFQ or CDQ in the BSAI. If the tunnel opening requirement remained in effect, the ability to harvest halibut IFQ or CDQ using pots would have been limited because the opening would be too small for legal halibut.

In developing this proposed rule, the Council and NMFS carefully considered existing regulations and retention requirements across the BSAI and GOA. This proposed rule would add an exception applicable to the GOA so that the requirement for a nine-inch maximum width tunnel opening does not apply to groundfish pots when a vessel begins a trip with unfished halibut IFQ on board and when those vessels are fishing for IFQ halibut and IFQ sablefish.

Authorized Gear

Pots used to fish for groundfish must have biodegradable panels to avoid ghost fishing. Collapsible slinky pots are an emerging pot type in pot fisheries, particularly for longline pot fisheries, which meet the existing definition for pot gear as specified in paragraph 15 of the definition for “Authorized fishing gear” at § 679.2. Currently, each pot, including collapsible slinky pots, must have a biodegradable panel as described in paragraph (15)(i) of the definition for “Authorized fishing gear.” However, collapsible slinky pots are prone to premature failure under this configuration (see Analysis section 4.5). This proposed rule would provide additional options for the permissible placement of the biodegradable panel on collapsible slinky pots so vessel operators in the IFQ and CDQ fisheries could choose the configuration that works best for their operation.

The final rule implementing the IFQ Program excluded jig gear from allowable gear types for the sablefish fixed gear fishery. The intent of the IFQ Program was not to change the sablefish TAC allocation scheme or require additional FMP amendments for allocation among gear types. As a result, the final rule defined the allocation categories as “hook-and-line and pot gear” and “trawl gear,” excluding jig gear from allowable fixed gear types for sablefish IFQ and CDQ fisheries.

For this proposed rule, the Council recommended regulatory revisions to authorize jig gear as an authorized fishing gear type in the GOA sablefish IFQ fisheries and the BSAI sablefish IFQ and CDQ fisheries. These proposed revisions would not change the allocation scheme but would change the naming conventions for TAC allocation categories. For alignment and clarity with Federal regulations, NMFS is updating the FMP language as well. The Council's intent is to increase entry-level opportunities and increase flexibility for QS holders. This is because jig gear is a smaller investment than other gear types and does not require significant vessel retrofits as with other gear. Additionally, jig gear is already an authorized gear type for the harvest of halibut IFQ and CDQ and this action would further align the authorized gear types in the halibut and sablefish IFQ fisheries.

Need for Amendment 112, Amendment 124, and This Proposed Rule

Amendment 112, Amendment 124, and this proposed rule are intended to increase operational efficiency and reduce administrative burden for IFQ Program and CDQ Program participants. First, this proposed rule would expand available options for placement of a biodegradable panel specific to collapsible slinky pots used to fish for halibut IFQ or CDQ, or sablefish IFQ or CDQ. Second, this proposed rule would create an exemption from the requirement to comply with a nine-inch tunnel opening when a vessel begins a trip with unfished halibut IFQ on board and when those vessels are fishing for IFQ halibut and IFQ sablefish in the GOA. Third, this proposed rule would revise regulatory specifications for gear marking, pot limits, gear tending, and gear retrieval to implement the intended purposes of Amendment 101. Fourth, this proposed rule would authorize jig gear for the harvest of sablefish IFQ and CDQ in the BSAI and sablefish IFQ in the GOA in order to provide additional opportunity for entry-level participants. Fifth, this proposed rule would remove the Adak residency requirement for a period of five years in order to provide opportunity for the Adak CQE to fully harvest its IFQ. Lastly, this proposed rule would update regulations for clarity by revising recordkeeping and reporting requirements for groundfish logbooks (including IFQ species), and would improve operational efficiency by modifying the IFQ Program medical transfer provision and allowing electronic submission for IFQ and CQE Program application forms.

The Proposed Rule

This proposed rule would revise regulations at 50 CFR part 679. This section describes the proposed changes to current regulations to implement Amendment 124 to the BSAI FMP and Amendment 112 to the GOA FMP, as well as additional regulations recommended by the Council and NMFS.

Collapsible Slinky Pot Exception

This proposed rule would amend regulations at § 679.2 to allow for the biodegradable panel to be placed anywhere on the mesh of a collapsible slinky pot. The panel must be at least 18 inches (45.72 cm) in length and use untreated cotton thread of no larger size than No. 30 (i.e., biodegradable twine). Per the Council's intent, the proposed rule would also allow the door of the collapsible slinky pot to be wrapped with biodegradable twine. Under this option, the biodegradable twine would not have to be 18 inches in length but the door must be a minimum of 18 inches in diameter. This proposed rule would also add the descriptors “rigid or collapsible” to the definition of “Pot gear” in paragraph (15)(i) of the definition of “Authorized fishing gear” so that both types of pots are expressly included in this definition.

These changes are limited to slinky pots in the IFQ and CDQ fisheries. The proposed rule would not affect pot gear used in non-IFQ or non-CDQ groundfish fisheries, which remain subject to the existing biodegradable panel placement requirements in the definition for “Authorized fishing gear” in paragraph (15)(i). Likewise, rigid pot gear used in the IFQ and CDQ fisheries remain subject to the requirements in the definition for “Authorized fishing gear” in paragraph (15)(i).

Tunnel Opening Exception for the GOA

Pots used in the sablefish IFQ fishery are required to have tunnel openings no wider than nine inches, which are intended to exclude halibut. An exception to this requirement already applies in the BSAI when fishery participants use pots and also have unused halibut IFQ onboard. The current exception in the BSAI can be used even if no sablefish IFQ is onboard. This proposed rule would add an exception in the GOA to the nine-inch tunnel opening requirement only where there is an IFQ or CDQ permit holder onboard who has both unused halibut IFQ and unused sablefish IFQ onboard. Specifically, this proposed rule would apply the exemption at § 679.2 under the definition of “Authorized fishing gear” at paragraph (15)(iii) when there is IFQ halibut onboard a vessel and the harvester is fishing for IFQ sablefish with longline pot gear in the GOA in accordance with § 679.42(l). No change would be made to the exception for the BSAI nor to the BSAI halibut and sablefish pot gear requirements described at § 679.42(m).

Gear Specifications in the GOA

This proposed rule would revise regulations at § 679.24(a)(3) to modify the requirements for marking of longline pot gear deployed to harvest IFQ sablefish in the GOA. This change was recommended because elements of the existing marking requirements are unnecessary and burdensome for vessel operations. This proposed rule would remove the requirement that each end of a set of longline pot gear have a cluster of four or more marker buoys, a flag mounted on a pole, and a radar reflector. However, the requirement that each end of a gear set have an attached hard buoy ball marked with the capital letters, “LP,” indicating longline pot gear, would remain so that gear visibility is maintained. Likewise, no changes would be made to § 679.24(a)(1) or (2), which require all hook-and-line, longline pot, and pot-and-line marker buoys to be marked with the vessel's Federal Fisheries Permit (FFP) number or Alaska Department of Fish & Game (ADF&G) vessel registration number.

This proposed rule would modify § 679.42(l)(5)(ii) for longline pot gear limits in the WY District GOA. Namely, the maximum number of pots that a vessel operator may deploy would be increased from 120 to 200 when harvesting IFQ sablefish in the WY District of the GOA. This proposed rule would not modify the maximum number of pots permitted in the SEO District or CGOA and WGOA regulatory areas.

Additionally, this proposed rule would modify IFQ fisheries prohibitions at § 679.7(f) and gear tending and retrieval requirements at § 679.42(l)(5)(iii) for longline pot gear in the GOA. First, this proposed rule would add cross references to § 679.42(l)(5)(iii) in the prohibitions at § 679.7, including paragraph (f)(21) for CVs in the SEO District, paragraph (f)(22) for CPs in the SEO District, paragraph (f)(23) for CVs or CPs in the WY District and the CG regulatory area, and paragraph (f)(24) for CVs or CPs in the WG regulatory area. These changes are proposed for consistency and ease of navigation between regulations for longline pot gear in the GOA and prohibitions for IFQ fisheries.

Second, this proposed rule would modify regulations at § 679.42(l)(5)(iii)(A) for CV operators in the SEO District, by replacing retrieval requirements (i.e., retrieve and remove) with gear tending requirements (i.e., redeploy or remove), removing any reference to IFQ landings, and modifying the timeline so that a vessel operator either tends or retrieves gear from the fishing grounds within five days of deploying the gear. Corresponding changes are also proposed at § 679.7(f)(21) to update the relevant prohibition. For the Central GOA regulatory area, this proposed rule would modify the timeline so that a vessel operator either redeploys or removes gear from the fishing grounds within seven days of deploying the gear, adding paragraph § 679.42(l)(5)(iii)(E) to specify the revised gear tending requirements in a separate paragraph from the WY District. This proposed rule would also revise the corresponding prohibition at § 679.7(f)(23) for the CG regulatory area and the WY District. This proposed rule would not modify the gear tending requirements for CPs in the SEO District, vessel operators in the WY District, or vessel operators in the WG regulatory area.

Authorize Jig Gear

This proposed rule would revise regulations at §§ 679.2, 679.20, and 679.24 to authorize jig gear in the IFQ and CDQ sablefish fisheries in the BSAI and the IFQ sablefish fishery in the GOA consistent with Amendments 124 and 112. Jig gear is defined at § 679.2 in paragraph (8) of the definition for “Authorized fishing gear.” Authorization of jig gear for the aforementioned fisheries would not require the definition of jig gear to be changed. Instead, this proposed rule would add “jig gear” to the definition of “Fixed gear,” in paragraph (4)(ii) under “Authorized fishing gear” at § 679.2, to specify that jig gear may be used to harvest sablefish IFQ and CDQ from any BSAI reporting area. No GOA-specific changes are required. The definition of “Fixed gear,” defined at § 679.2 in paragraph (4)(i) under the definition “Authorized fishing gear,” currently includes all “longline gear,” used to harvest sablefish in the GOA. “Longline gear” is already defined to include “jig gear.”

This proposed rule would also revise regulations at § 679.20(a)(4)(iii)(A) for the Bering Sea subarea, § 679.20(a)(4)(iv)(A) for the Aleutian Islands subarea, and § 679.20(b)(1)(i) for the nonspecified reserve. This change would replace the phrase “hook-and-line and pot gear” with “fixed gear” for consistency with the definition of “Fixed gear” defined at § 679.2 in paragraph (4)(ii) of the definition “Authorized fishing gear.” This proposed rule would not change the percent of the TAC allocated to the sablefish IFQ fishery in the BSAI. NMFS would continue to allocate 50 percent of the sablefish TAC in the Bering Sea subarea and 75 percent of the sablefish TAC in the Aleutian Islands subarea to the sablefish IFQ fishery.

This proposed rule would add “jig gear” to § 679.24 where gear restrictions for sablefish are found. Specifically, this proposed rule would add “jig gear” to § 679.24(c)(2)(i)(A) and (B) so that jig gear is an authorized gear type for the Eastern GOA regulatory area and permitted when directed fishing for IFQ sablefish. This proposed rule would also add “jig gear” to § 679.24(c)(3) and (4) so that sablefish is not considered a prohibited species for vessel operators using jig gear in the Central GOA, Western GOA, or BSAI. This proposed rule would also make two grammatical corrections to the list of permissible gear types in the Eastern GOA regulatory area at § 679.24(c)(2)(i)(A) and (B) and § 679.24(c)(4), changing “and” to “or” to clarify that at least one of the listed gear types must be used, but all gear types need not be used simultaneously.

Adak Residency Requirement

This proposed rule would revise regulations at § 679.42 for sablefish and halibut QS use specific to eligible community residents of Adak, Alaska. This proposed rule would revise the date specified at § 679.42(e)(8)(ii) and (f)(7)(ii) from March 17, 2019, to five years after the effective date of this final rule. The regulatory changes at § 679.42(e)(8)(ii) would apply only to a CQE in the Aleutian Islands subarea for sablefish QS. The regulatory changes at § 679.42(f)(7)(ii) would only apply to a CQE in IFQ regulatory Area 4B for halibut QS.

Other Regulatory Provisions

This proposed rule would modify § 679.21(a)(5), which currently references sablefish as a prohibited species via a cross-reference to § 679.24(c)(2)(ii). Because § 679.24(c)(2)(ii) only pertains to the Eastern GOA regulatory area, the proposed rule would change the cross reference to § 679.24(c)(2) to clarify that sablefish is a prohibited species for the western GOA, central GOA, and the BSAI, as well as the Eastern GOA, per § 679.24(c)(2) through (4). This fix would not modify prohibited species bycatch management or gear restrictions for sablefish but rather correct the cross reference to include all four areas.

This proposed rule would also revise regulations at § 679.42 to exclude medical transfers approved in 2020, 2021, or 2022 from the use restriction detailed at § 679.42(d)(2)(iv)(C). Specifically, this proposed rule would add paragraph (d)(2)(iv)(C)(l), stating, “A medical transfer approved in 2020, 2021, or 2022 does not count toward the restriction detailed in paragraph (d)(2)(iv)(C) of this section.” Furthermore, this proposed rule would add, “Except as provided for in paragraph (d)(2)(iv)(C)(1) of this section,” to the beginning of paragraph (d)(2)(iv)(C) to link the exception to new paragraph (d)(2)(iv)(C)(1).

Additionally, this proposed rule would revise regulations at § 679.5 specific to the longline and pot gear catcher vessel daily fishing logbook (DFL) and the catcher processor daily cumulative production logbook (DCPL). A sentence would be added at § 679.5(c)(1)(ii), (c)(3)((i)(A)(1), (c)(3)((i)(B)(1), and (c)(3)(iv)(A)(2) to clarify that the same logbook may be used for different gear types, provided different gear types are recorded on separate pages. The purpose of these regulatory changes is to provide clear direction to vessel operators as to how these logbooks may be used. The changes are specific to groundfish fisheries for CVs greater than 60 ft length overall (LOA) using longline or pot gear, and IFQ or CDQ halibut or IFQ or CDQ sablefish fisheries for CVs less than 60 ft LOA using longline pot gear or pot gear.

The proposed rule would revise regulations relevant to the CQE Program at §§ 679.4, 679.41, and 679.5. Those regulations require CQEs to submit certain information to the Regional Administrator and imply that information must be submitted by mail because only a mailing address is listed. This proposed rule would revise §§ 679.4(k)(10)(vi)(A) and (D), 679.41(l)(3), and 679.5(t)(2) to remove the address for the Regional Administrator and change the word “sent” to “submitted” in § 679.4(k)(10)(vi)(D) to allow for additional submission methods. As a result, no submission method would be included in regulations and, instead, NMFS would provide this information on forms and on the NMFS Alaska Region website at https://www.fisheries.noaa.gov/region/alaska. The purpose of these changes is to provide additional methods for the public to submit information as the agency moves toward electronic submission.

Classification

NMFS is issuing this proposed rule pursuant to 304(b)(1)(A) and 305(d) of the Magnuson-Stevens Act. Section 304(b)(1)(A) authorizes NMFS to implement FMPs and regulatory amendments. Pursuant to Magnuson-Stevens Act section 305(d), this action is necessary to carry out the amendments to the BSAI FMP and the GOA FMP. The NMFS Assistant Administrator has determined this proposed rule is consistent with the Council's recommendations and NMFS regulatory amendments, the BSAI FMP, the GOA FMP, other provisions of the Magnuson-Stevens Act, and other applicable law, subject to further consideration after public comment.

Regulations governing the U.S. fisheries for Pacific halibut are developed by the IPHC, the Council, and the Secretary of Commerce. Section 5 of the Halibut Act (16 U.S.C. 773c) allow the Regional Council having authority for a particular geographical area to develop regulations governing the allocation and catch of halibut in U.S. Convention waters as long as those regulations do not conflict with IPHC regulations. The proposed action is consistent with the Council's authority under the Halibut Act to implement management measures for the halibut IFQ fishery and does not conflict with IPHC regulations.

This proposed rule has been determined to be not significant for purposes of Executive Order 12866.

Regulatory Impact Review

NMFS prepared an analysis (“Analysis”) to assess the cost and benefits of available regulatory alternatives and considers all quantitative and qualitative measures. A copy of the Analysis is available from NMFS as indicated in the ADDRESSES section above.

Certification Under the Regulatory Flexibility Act

The Chief Counsel for Regulation of the Department of Commerce certified to the Chief Counsel for Advocacy of the Small Business Administration that this proposed rule, if adopted, would not have a significant economic impact on a substantial number of small entities. NMFS requests comments on this certification for this proposed rule. The factual basis for this determination is as follows:

This proposed rule would modify IFQ Program regulations for IFQ and CDQ pot gear fisheries, including expanded flexibilities for the configuration of the biodegradable panel and tunnel opening exceptions for pots used to harvest IFQ and CDQ. This proposed rule would reduce the number of marker buoys and eliminate flagpole and radar reflector requirements for pot gear, modify gear tending and gear retrieval requirements, and increase pot limits. This proposed rule would authorize jig gear as a legal gear type for harvesting sablefish IFQ and CDQ, expanding fishing opportunities for entry-level participants. Lastly, the proposed action would temporarily remove the Adak CQE residency requirement for an additional five years and modify recordkeeping and reporting requirements to improve operational efficiency. A discussion of the potential impacts of the proposed action is further discussed in sections 4.7 and 4.8 of the Analysis.

Entities that would be directly regulated by this proposed rule include all vessel operators that harvest halibut and sablefish, including IFQ, CDQ, or CQE Program participants. In 2020, the most recent year with vessel revenue data available, 773 vessel operators participated in the BSAI IFQ or CDQ and GOA IFQ fixed gear halibut and sablefish fisheries. Of these vessel operators, 752 are considered small entities and 21 are considered large entities. Vessel operators are an estimate based on the number of unique vessels. Vessel operators are used as the unit for directly regulated small entities because there is no way to estimate revenue using individual QS holders. Direct impacts would be expected to be positive and beneficial for vessel operators who participate in the IFQ, CDQ, or CQE Programs because the intent of this action is to reduce regulatory burden and increase flexibility to allow for innovation in pot gear configurations and individual operations on the fishing grounds. Direct impacts are expected to be positive and beneficial for vessel operators who participate in the CQE Program because the intent of removing the residency requirement for an additional period of five years is to provide more opportunity for the Adak CQE to fully harvest its allocation.

This action does not place any new regulatory burden on vessel operators; instead, this action increases flexibility and operational efficiency. For these reasons, this action is not expected to have an adverse economic impact on a substantial number of small entities, an initial regulatory flexibility analysis is not required, and none has been prepared.

Information Collection Requirements

This proposed rule contains collection of information requirements subject to review and approval by the Office of Management and Budget (OMB) under the Paperwork Reduction Act (PRA). This proposed rule would revise existing collection-of-information requirements for OMB Control Number 0648-0665 (Alaska CQE Program) and revise and extend for 3-years existing collection-of-information requirements for 0648-0353 (Alaska Region Gear Identification Requirements). The existing collection-of-information requirements would continue to apply under 0648-0213 (Alaska Region Logbook and Activity Family of Forms); 0648-0272 (Alaska Pacific Halibut & Sablefish Fisheries: IFQ); and 0648-0515 (Alaska Interagency Electronic Reporting System). The proposed changes to the collections are described below. The public reporting burdens for the information collection requirements provided below includes the time for reviewing instructions, searching existing data sources, gathering and maintaining the data needed, and completing and reviewing the collection of information.

OMB Control Number 0648-0353

NMFS proposes to revise and extend by three years the existing requirements for OMB Control Number 0648-0353. This collection contains gear identification requirements for the groundfish fisheries in the Exclusive Economic Zone off Alaska. This collection would be revised to reduce the number of marker buoys required for longline pot gear deployed to fish IFQ sablefish in the GOA because this proposed rule would remove requirements for the vessel owner to use four or more marker buoys, a flag mounted on a pole, and a radar reflector to mark each end of a longline set. Removing these requirements would decrease the burden for harvesters and increase operational efficiency. The number of respondents would not change. Public reporting burden is estimated to average 15 minutes or less per individual response to collect the information and paint it on a buoy. Subject to public comment, no changes are made to the estimated burden as the estimate allows for differences in the time needed to mark buoys. The estimated total number of respondents for this collection is 895; the estimated total annual burden hours are 1,460 hours; and the estimated total annual cost to the public for recordkeeping and reporting costs is $13,425.

OMB Control Number 0648-0665

This information collection is revised to modify the text on the Application for CQE to Transfer IFQ to an Eligible Community Resident or Non-Resident because this proposed rule would remove the residency requirement for the Adak CQE for five years.

This proposed rule also would revise regulations for the CQE annual report, the CQE LLP authorization letter, the Application for Nonprofit Corporation to be Designated as a CQE, and the Application for a CQE to Receive a Non-trawl Groundfish LLP License to provide additional methods for the public to submit the information as the agency moves toward electronic submission.

These revisions do not affect the number of respondents, anticipated responses, or burden hours or costs. The public reporting burden per individual response is estimated to average 2 hours for the Application for CQE to Transfer IFQ to an Eligible Community Resident or Non-Resident, 200 hours for the Application for Nonprofit Corporation to be Designated as a CQE, 40 hours for the CQE Annual Report, 20 hours for the Application for a CQE to Receive a Non-trawl Groundfish LLP License, and 1 hour for the CQE License Limitation Program Authorization letter.

Public Comment

Public comment is sought regarding: whether these proposed collections of information are necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information to NMFS Alaska Region at the ADDRESSES above and at www.reginfo.gov/public/do/PRAMain.

Notwithstanding any other provisions of the law, no person is required to respond to and no person shall be subject to a penalty for failure to comply with, a collection of information subject to the requirements of the PRA, unless that collection of information displays a currently valid OMB control number.

List of Subjects in 50 CFR Part 679

Alaska, Fisheries, Reporting and recordkeeping requirements.

Dated: November 16, 2022.
Samuel D. Rauch, III,
Deputy Assistant Administrator for Regulatory Programs, National Marine Fisheries Service.

For the reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.2 amend the definition for “Authorized fishing gear” by revising paragraph (4)(ii) and the introductory text of paragraph (15), adding paragraph (15)(i)(A), adding and reserving paragraph (15)(i)(B), and revising paragraph (15)(iii) to read as follows:

§ 679.2 Definitions.

* * * * *

Authorized fishing gear * * *

(4) * * *

(ii) For sablefish harvested from any BSAI reporting area, all hook-and-line gear, jig gear, and all pot gear.

* * * * *

(15) Pot gear means a portable structure, rigid or collapsible, that is designed and constructed to capture and retain fish alive in the water. This gear type includes longline pot and pot-and-line gear. Each groundfish pot must comply with the following:

(i) * * *

(A) Collapsible pot exception. A collapsible pot (e.g., slinky pot) used to fish for halibut IFQ or CDQ, or sablefish IFQ or CDQ, in accordance with paragraph (4) of this definition, is exempt from the biodegradable panel placement requirements described in paragraph (15)(i) of this definition. Instead, a collapsible pot must have either a biodegradable panel placed anywhere on the mesh of the collapsible pot, which is at least 18 inches (45.72 cm) in length and is made from untreated cotton thread of no larger size than No. 30, or one door on the pot must measure at least 18 inches (45.72 cm) in diameter and be wrapped with untreated cotton thread of no larger size than No. 30.

(B) [Reserved]

* * * * *

(iii) Halibut retention exception. If halibut retention is required when harvesting halibut from any IFQ regulatory area in the BSAI or GOA, the requirements to comply with a tunnel opening for pots when fishing for IFQ or CDQ halibut or IFQ or CDQ sablefish in the BSAI in accordance with § 679.42(m), or for IFQ sablefish in the GOA in accordance with § 679.42(l), do not apply.

* * * * *

§ 679.4 [Amended]

3. Amend § 679.4 as follows:

a. In paragraph (k)(10)(vi)(A), remove the address text, “, NMFS, P.O. Box 21668, Juneau, AK 99802”; and

b. In paragraph (k)(10)(vi)(D), remove the address text, “sent to the Regional Administrator, NMFS, P.O. Box 21668, Juneau, AK 99802” and add in its place, “submitted to the Regional Administrator”.

* * * * *

4. Amend § 679.5 as follows:

a. Revise paragraphs (c)(1)(ii), (c)(3)(i)(A)(1), (c)(3)(i)(B)(1), and (c)(3)(iv)(A)(2); and

b. In paragraph (t)(2), remove the address text, “National Marine Fisheries Service, P.O. Box 21668, Juneau, AK 99802,”.

The revisions read as follows:

§ 679.5 Recordkeeping and reporting (R&R).

* * * * *

(c) * * *

(1) * * *

(ii) Use of two or more vessel logbooks of different gear types. If two or more different gear types are used onboard a vessel in a fishing year, the operator(s) of this vessel may use the same vessel logbooks for different gear types, provided different gear types are recorded on separate pages.

* * * * *

(3) * * *

(i) * * *

(A) * * *

(1) Except as described in paragraph (f)(1)(i) of this section, the operator of a catcher vessel 60 ft (18.3 m) or greater LOA, that is required to have an FFP under § 679.4(b) and that is using longline or pot gear to harvest groundfish must maintain a longline and pot gear DFL and may use the same logbook for longline and pot gear, provided different gear types are recorded on separate pages.

* * * * *

(B) * * *

(1) The operator of a catcher vessel less than 60 ft (18.3 m) LOA, using longline pot gear to harvest IFQ sablefish or IFQ halibut in the GOA, or using pot gear to harvest IFQ or CDQ halibut or IFQ or CDQ sablefish in the BSAI, must maintain a longline and pot gear DFL according to paragraph (c)(3)(iv)(A)(2) of this section and may use the same logbook for longline and pot gear, provided different gear types are recorded on separate pages.

* * * * *

(iv) * * *

(A) * * *

(2) If a catcher vessel identified in paragraph (c)(3)(i)(A)(1) or (c)(3)(i)(B)(1) through (3) of this section is active, the operator must record in the longline and pot gear DFL, for one or more days on each logsheet, the information listed in paragraphs (c)(3)(v), (vi), (viii), and (x) of this section and may use the same logbook for longline and pot gear, provided different gear types are recorded on separate pages.

* * * * *

5. In § 679.7, revise paragraphs (f)(21) through (24) to read as follows:

§ 679.7 Prohibitions.

* * * * *

(f) * * *

(21) Fail to redeploy or remove from the fishing grounds all deployed longline pot gear that is assigned to, and used by, a catcher vessel within five days of deploying the gear to fish IFQ sablefish in the Southeast Outside District of the GOA in accordance with § 679.42(l)(5)(iii)(A).

(22) Fail to redeploy or remove from the fishing grounds all deployed longline pot gear that is assigned to, and used by, a catcher/processor within five days of deploying the gear to fish IFQ sablefish in the Southeast Outside District of the GOA in accordance with § 679.42(l)(5)(iii)(B).

(23) Fail to redeploy or remove from the fishing grounds all deployed longline pot gear that is assigned to, and used by, a catcher vessel or a catcher/processor within five days of deploying the gear to fish IFQ sablefish in the West Yakutat District of the GOA, and within seven days of deploying the gear to fish IFQ sablefish in the Central GOA regulatory area, in accordance with § 679.42(l)(5)(iii)(C) and (E).

(24) Fail to redeploy or remove from the fishing grounds all deployed longline pot gear that is assigned to, and used by, a catcher vessel or a catcher/processor within seven days of deploying the gear to fish IFQ sablefish in the Western GOA regulatory area in accordance with § 679.42(l)(5)(iii)(D).

* * * * *

6. In § 679.20, revise paragraphs (a)(4)(iii)(A), (a)(4)(iv)(A), and (b)(1)(i) to read as follows:

§ 679.20 General limitations.

* * * * *

(a) * * *

(4) * * *

(iii) * * *

(A) Fixed gear. Vessels in the Bering Sea subarea using fixed gear will be allocated 50 percent of each TAC for sablefish.

* * * * *

(iv) * * *

(A) Fixed gear. Vessels in the Aleutian Islands subarea using fixed gear will be allocated 75 percent of each TAC for sablefish.

* * * * *

(b) * * *

(1) * * *

(i) Nonspecified reserve. Fifteen percent of the BSAI TAC for each target species, except pollock, the fixed gear allocation for sablefish, and the Amendment 80 species, which includes Pacific cod, is automatically placed in the nonspecified reserve before allocation to any sector. The remaining 85 percent of each TAC is apportioned to the initial TAC for each target species that contributed to the nonspecified reserve. The nonspecified reserve is not designated by species or species group. Any amount of the nonspecified reserve may be apportioned to target species that contributed to the nonspecified reserve, provided that such apportionments are consistent with paragraph (a)(3) of this section and do not result in overfishing of a target species.

* * * * *

7. In § 679.21 revise paragraph (a)(5) to read as follows:

§ 679.21 Prohibited species bycatch management.

(a) * * *

(5) Sablefish as a prohibited species. (See § 679.24(c) for gear restrictions for sablefish.)

* * * * *

8. In § 679.24, revise paragraphs (a)(3), (c)(2)(i)(A) and (B), and (c)(3) and (4) to read as follows:

§ 679.24 Gear limitations.

* * * * *

(a) * * *

(3) Each end of a set of longline pot gear deployed to fish IFQ sablefish in the GOA must have one hard buoy ball attached and marked with the capital letters “LP” in accordance with paragraph (a)(2) of this section.

* * * * *

(c) * * *

(2) * * *

(i) * * *

(A) No person may use any gear other than hook-and-line, longline pot, jig, or trawl gear when fishing for sablefish in the Eastern GOA regulatory area.

(B) No person may use any gear other than hook-and-line gear, longline pot gear, or jig gear to engage in directed fishing for IFQ sablefish.

* * * * *

(3) Central and Western GOA regulatory areas; sablefish as prohibited species. Operators of vessels using gear types other than hook-and-line, longline pot, jig, or trawl gear in the Central and Western GOA regulatory areas must treat any catch of sablefish in these areas as a prohibited species as provided by § 679.21(a).

(4) BSAI. Operators of vessels using gear types other than hook-and-line, longline pot, pot-and-line, jig, or trawl gear in the BSAI must treat sablefish as a prohibited species as provided by § 679.21(a).

* * * * *

§ 679.41 [Amended]

9. In § 679.41, in paragraph (l)(3), remove the two references to the address text “, NMFS, P.O. Box 21668, Juneau, AK 99802”.

10. In § 679.42, revise paragraphs (d)(2)(iv)(C), (e)(8)(ii), (f)(7)(ii), (l)(5)(ii)(B), (l)(5)(iii)(A) and (C), and add paragraph (l)(5)(iii)(E) to read as follows:

§ 679.42 Limitations on use of QS and IFQ.

* * * * *

(d) * * *

(2) * * *

(iv) * * *

(C) Except as provided for in paragraph (d)(2)(iv)(C)(1) of this section, NMFS will not approve a medical transfer if the applicant has received a medical transfer in any 3 of the previous 7 calendar years for any medical reason.

(1) Medical transfers approved in 2020, 2021, or 2022 do not count toward the restriction detailed in paragraph (d)(2)(iv)(C) of this section.

(2) [Reserved]

* * * * *

(e) * * *

(8) * * *

(ii) In the Aleutian Islands subarea may lease the IFQ resulting from that QS to any person who has received an approved Application for Eligibility as described in § 679.41(d) prior to [date five years after the effective date of the final rule], but only to an eligible community resident of Adak, AK, after [date five years after the effective date of the final rule].

* * * * *

(f) * * *

(7) * * *

(ii) In IFQ regulatory Area 4B may lease the IFQ resulting from that QS to any person who has received an approved Application for Eligibility as described in § 679.41(d) prior to [date five years after the effective date of the final rule] but only to an eligible community resident of Adak, AK, after [date five years after the effective date of the final rule].

* * * * *

(l) * * *

(5) * * *

(ii) * * *

(B) In the West Yakutat District of the GOA, a vessel operator is limited to deploying a maximum of 200 pots.

* * * * *

(iii) * * *

(A) In the Southeast Outside District of the GOA, a catcher vessel operator must redeploy or remove from the fishing grounds all longline pot gear that is assigned to the vessel and deployed to fish IFQ sablefish within five days of deploying the gear.

* * * * *

(C) In the West Yakutat District of the GOA, a vessel operator must redeploy or remove from the fishing grounds all longline pot gear that is assigned to the vessel and deployed to fish IFQ sablefish within five days of deploying the gear.

* * * * *

(E) In the Central GOA regulatory area, a vessel operator must redeploy or remove from the fishing grounds all longline pot gear that is assigned to the vessel and deployed to fish IFQ sablefish within seven days of deploying the gear.

* * * * *

[FR Doc. 2022-25296 Filed 11-22-22; 8:45 am]

BILLING CODE 3510-22-P